DEPARTMENT OF ENERGY

Federal Energy Regulatory Commission

[Docket No. EL04-140-000, et al.]

Pasco Cogen, Ltd., et al.; Electric Rate and Corporate Filings

October 5, 2004.

The following filings have been made with the Commission. The filings are listed in ascending order within each docket classification.

1. Pasco Cogen, Ltd.

[Docket Nos. EL04-140-000 and QF92-156-006]

Take notice that on September 30, 2004, Pasco Cogen, Ltd. (Pasco) submitted a request for a temporary waiver of the operating standards for its qualifying cogeneration facility located in Dade City, Florida, pursuant to section 292.205(c) of the Commission's regulations in the above caption dockets. Pasco states that the waiver being requested is for calendar years 2004 and 2005.

Comment Date: 5 p.m. eastern time on October 21, 2004.

2. Union Power Partners, L.P., Complainant v. Entergy Services, Inc., Entergy Operating Companies, Respondents

[Docket No. EL05-1-000]

Take notice that on October 4, 2004, Union Partners, L.P. (Union) filed a Complaint against the Entergy Operating Companies and Entergy Services, Inc. (collectively, Entergy) pursuant to Rule 206 of the Commission's Rules of Practice and Procedure (18 CFR 385.206). Union asserts that Entergy, in violation of its Open Access Transmission Tariff (OATT) and Commission pricing policy, has unjustly and unreasonably failed to provide transmission credits, with interest, associated with network facilities paid for by Complainant.

Union requests a Commission order directing Entergy to amend certain interconnection agreements to provide transferability of transmission credits.

Union states that it has served by e-mail, messenger, or overnight delivery on Entergy.

Comment Date: 5 p.m. eastern time on October 25, 2004.

3. New England Power Pool and ISO New England Inc.

[Docket No. ER02-2330-031]

Take notice that on September 30, 2004, ISO New England Inc. (ISO) submitted a Status Report on Development of Day-Ahead Load Response Program in Docket No. ER02-2330-031 as directed by the Commission in its November 17, 2003, Order on Requests for Rehearing and Compliance Filing, 105 FERC ¶61,211.

ISO states that copies of the filing have been served on all parties to the above-captioned proceeding.

Comment Date: 5 p.m. eastern time on October 21, 2004.

4. Tucson Electric Power Company and UNS Electric, Inc.

[Docket No. ER04-460-003]

Take notice that on September 30, 2004, Tucson Electric Power Company (Tucson Electric) and UNS Electric Inc. (UNS Electric) filed an amendment to their July 14, 2004, filing submitted in compliance with the Commission(s June 4, 2004, order in Docket No. ER04-442-000, et al. Tucson requests an effective date of April 26, 2004.

Comment Date: 5 p.m. eastern time on October 21, 2004.

5. Entergy Services, Inc.

[Docket No. ER04-763-003]

Take notice that on September 30, 2004, Entergy Services, Inc., (Entergy), on behalf of Entergy Arkansas, Inc., Entergy Gulf States, Inc., Entergy Louisiana, Inc., Entergy Mississippi, Inc., and Entergy New Orleans, Inc., submitted an errata filing to correct the Order No. 614 designation of one tariff sheet included in Entergy's August 9, 2004, regional reliability variations compliance filing for Entergy's Large Generator Interconnection Procedures pursuant to Entergy Services, Inc., 108 FERC ¶61,020 (2004).

Comment Date: 5 p.m. eastern time on October 21, 2004.

6. Entergy Services, Inc.

[Docket No. ER04-830-002]

Take notice that on September 30, 2004, Entergy Services, Inc., (Entergy), on behalf of Entergy Arkansas, Inc., Entergy Gulf States, Inc., Entergy Louisiana, Inc., Entergy Mississippi, Inc., and Entergy New Orleans, Inc., submitted an errata filing to correct the Order No. 614 designation of several tariff sheets included in Entergy's August 9, 2004, compliance filing for Entergy's Large Generator Interconnection Procedures pursuant to Entergy Services, Inc., 108 FERC ¶ 61,029 (2004).

Comment Date: 5 p.m. eastern time on October 21, 2004.

7. Illinois Power Company

[Docket No. ER04-1092-001]

Take notice that on September 29, 2004, Illinois Power Company (Illinois Power) submitted for filing Service Agreement No. 390, pursuant to which Illinois Power takes Network Integration Transmission Service under its Open Access Transmission Tariff for the purpose of serving retail native load customers, revised in compliance with the Commission's order issued September 1, 2004, in Docket No. ER04-1092-000.

Comment Date: 5 p.m. eastern time on October 20, 2004.

8. PJM Interconnection, L.L.C.

[Docket No. ER03-1101-006]

Take notice that on September 29, 2004, PJM Interconnection, L.L.C. (PJM) filed a supplement to its September 22, 2004, report in Docket No. ER03-1101-005 on the effects of PJM's credit policy for virtual bidders, to provide information on the numbers and megawatt-hours of bids by market participants engaged in virtual bidding.

PJM states that copies of this filing have been served on all persons listed on the official service list compiled by the Secretary in this proceeding.

Comment Date: 5 p.m. eastern time on October 20, 2004.

9. Oregon Electric Utility Company, Portland General Electric Company, Portland General Term Power Procurement Company

[Docket No. ER04-1206-001]

Take notice that on September 29, 2004, Oregon Electric Utility Company (OEUC), Portland General Electric Company and Portland General Term Power Procurement Company submitted for filing import capability data in support of the application filed September 8, 2004, in Docket No. ER04-1206-000.

Comment Date: 5 p.m. eastern time on October 20, 2004.

10. ISO New England, Inc.

[Docket No. ER04-1255-000]

Take notice that on September 29, 2004, as amended September 30, 2004, ISO New England Inc. (ISO) submitted an application to revise provisions of Appendix E to Market Rule 1 regarding the Day-Ahead Load Response Program.

ISO states that copies of the filing have been served on all NEPOOL Participants, and the Governors and utility regulatory agencies of the New England States.

Comment Date: 5 p.m. eastern time on October 21, 2004.

11. The Dayton Power and Light Company

[Docket No. ER04-1256-000]

Take notice that on September 30, 2004, The Dayton Power and Light Company (Dayton) tendered for filing a Local Delivery Service Agreement with Buckeye Power, Inc.

Comment Date: 5 p.m. eastern time on October 21, 2004.

12. Alabama Power Company

[Docket No. ER04-1260-000]

Take notice that on September 30, 2004, Alabama Power Company (APC), submitted for filing amendments to the Index of Purchasers of Rate Schedule REA-1 of APC's FERC Electric Tariff, Original Volume No. 1. APC states that the Index of Purchasers has been revised to remove certain of the delivery points for Black Warrior Electric Membership Corporation and Tombigbee Electric Cooperative, Inc.

Comment Date: 5 p.m. eastern time on October 21, 2004.

13. Midwest Independent Transmission System Operator, Inc.

[Docket No. ER04-1261-000]

Take notice that on September 30, 2004, the Midwest Independent Transmission System Operator, Inc. (Midwest ISO), the Midwest ISO Transmission Owners, and the Midwest Stand Alone Transmission Companies (Filing Parties) submitted for filing proposed revisions to Midwest's ISO Open Access Transmission Tariff to accommodate Illinois Power Company becoming a new transmission owner member of the Midwest ISO. The Filing Parties request an effective date of October 1, 2004.

The Filing Parties have also requested waiver of the service requirements set forth in 18 CFR 385.2010. Midwest ISO states that it has electronically served a copy of this filing, with attachments, upon all Midwest ISO Members, Member representatives of Transmission Owners and Non-Transmission Owners, as well as all State commissions within the region. In addition, the filing has been electronically posted on the Midwest ISO's Web site at http://www.midwestiso.org under the heading Filings to FERC for other interested parties in this matter. Midwest ISO also states that it will provide hard copies to any interested parties upon request.

Comment Date: 5 p.m. eastern time on October 21, 2004.

14. Illinois Power Company

[Docket No. ER04-1262-000]

Take notice that on September 30, 2004, Illinois Power Company (Illinois Power) tendered for filing a Notice of Cancellation for certain service agreements under its Open Access Transmission Tariff. Illinois Power requests and effective date of October 1, 2004.

Comment Date: 5 p.m. eastern time on October 21, 2004.

15. New York Independent System Operator, Inc.

[Docket No. ER04-1263-000]

Take notice that on September 30, 2004, the New York Independent System Operator, Inc. (NYISO) submitted proposed revisions to its Open Access Transmission Tariff to enable the NYISO to recover or return the net of any financial settlements that may result pursuant to a limited testing program of virtual regional dispatch concepts with a neighboring control area.

NYISO states that it has electronically served a copy of this filing on the official representative of each of its Market Participants, on each participant in its stakeholder governance committees, and on the New York Public Service Commission and New Jersey Board of Public Utilities. The NYISO has also served the electric utility regulatory agency of Pennsylvania.

Comment Date: 5 p.m. eastern time on October 20, 2004.

16. Midwest Independent Transmission System Operator, Inc.

[Docket No. ER04-1264-000]

Take notice that on September 30, 2004, the Midwest Independent Transmission System Operator, Inc. (Midwest ISO), the Midwest ISO Transmission Owners, and the Midwest Stand Alone Transmission Companies (collectively, Filing Parties) submitted for filing proposed revisions to the Agreement of Transmission Facilities Owners to Organize the Midwest Independent Transmission System Operator, Inc., a Delaware Non-Stock Corporation to accommodate Illinois Power Company becoming a new transmission owner member of the Midwest ISO. The Filing Parties request an effective date of October 1, 2004.

The Filing Parties state that they have also requested waiver of the service requirements set forth in 18 CFR 385.2010. Midwest ISO states that it has electronically served a copy of this filing, with attachments, upon all Midwest ISO Members, Member representatives of Transmission Owners and Non-Transmission Owners, as well as all state commissions within the region. In addition, the filing has been electronically posted on the Midwest ISO's Web site at http://www.midwestiso.org under the heading Filings to FERC for other interested parties in this matter. Midwest ISO also state that they will provide hard copies to any interested parties upon request.

Comment Date: 5 p.m. eastern time on October 21, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please email FERCOnlineSupport@ferc.gov, or call (866) 208-3676 (toll free). For TTY, call (202) 502-8659.

Magalie R. Salas,
Secretary.

[FR Doc. E4-2578 Filed 10-12-04; 8:45 am]

BILLING CODE 6717-01-P